DEPARTMENT OF COMMERCE

International Trade Administration

[C-570-113]

Certain Collated Steel Staples From the People's Republic of China: Postponement of Preliminary Determination in the Countervailing Duty Investigation

AGENCY: Enforcement and Compliance, International Trade Administration, Department of Commerce.

DATES: Applicable August 19, 2019.

FOR FURTHER INFORMATION CONTACT: Bob Palmer or Joshua Simonidis, AD/CVD Operations, Office VIII, Enforcement and Compliance, International Trade Administration, U.S. Department of Commerce, 1401 Constitution Avenue NW, Washington, DC 20230; telephone: (202) 482-9068 or (202) 482-0608, respectively.

SUPPLEMENTARY INFORMATION:

Background

On June 26, 2019, the Department of Commerce (Commerce) initiated a countervailing duty (CVD) investigation of imports of certain collated steel staples (collated staples) from China.¹ Currently, the preliminary determination is due no later than August 30, 2019.

¹ See Certain Collated Steel Staples from the People's Republic of China: Initiation of Countervailing Duty Investigation, 84 FR 31840 (July 3, 2019).

Postponement of Preliminary Determination

Section 703(b)(1) of the Tariff Act of 1930, as amended (the Act), requires Commerce to issue the preliminary determination in a CVD investigation within 65 days after the date on which Commerce initiated the investigation. However, section 703(c)(1) of the Act permits Commerce to postpone the preliminary determination until no later than 130 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Kyocera Senco Industrial Tools, Inc.

On August 5, 2019, the petitioner submitted a timely request that Commerce postpone the preliminary CVD determination.³ The petitioner stated that it requests postponement “{d}ue to the number and nature of subsidy programs under investigation and the fact that the full initial questionnaire responses are not due until September 4, five days after the current preliminary determination deadline.” ⁴

³ See Petitioner's Letter, “Petitioner's Request to Postpone the Deadline for the Preliminary Determination,” dated August 5, 2019.

⁴ Id.

In accordance with 19 CFR 351.205(e), the petitioner has stated the reasons for requesting a postponement of the preliminary determination, and Commerce finds no compelling reason to deny the request. Therefore, in accordance with section 703(c)(1)(A) of the Act, Commerce is postponing the deadline for the preliminary determination to no later than 130 days after the date on which this investigation was initiated, i.e., November 4, 2019.⁵

⁵ Postponing the preliminary determination to 130 days after initiation would place the deadline on Sunday, November 3, 2019. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

Pursuant to section 705(a)(1) of the Act and 19 CFR 351.210(b)(1), the deadline for the final determination of this investigation will continue to be 75 days after the date of the preliminary determination.

Notification to Interested Parties

This notice is issued and published pursuant to section 703(c)(2) of the Act and 19 CFR 351.205(f)(1).

Dated: August 9, 2019.
Jeffrey I. Kessler,
Assistant Secretary for Enforcement and Compliance.

[FR Doc. 2019-17537 Filed 8-16-19; 8:45 am]

BILLING CODE 3510-DS-P